DEPARTMENT OF VETERANS AFFAIRS

[OMB Control No. 2900-0866]

Agency Information Collection Activity Under OMB Review: Application for Veteran Employment Through Technology Education Courses (VET TEC) High Technology Program

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0866.

FOR FURTHER INFORMATION CONTACT: Maribel Aponte, Office of Enterprise and Integration, Data Governance Analytics (008), 1717 H Street NW, Washington, DC 20006, (202) 266-4688 or email maribel.aponte@va.gov. Please refer to “OMB Control No. 2900-0866” in any correspondence.

SUPPLEMENTARY INFORMATION:

Authority: Pub. L. 115-48 Section 116.

Title: Application for Veteran Employment Through Technology Education Courses (VET TEC) High Technology Program.

OMB Control Number: 2900-0866.

Type of Review: Revision of a currently approved collection.

Abstract: VA Form 22-0994 allows students to apply to VA's VET TEC program. Education Service requests approval of this information collection to continue to accept applications that provide Veterans the opportunity to enroll in high technology programs that may fall outside of the definition of higher education. VA requires approval of this information collection so students may apply to enroll with a qualified provider.

An agency may not conduct or sponsor, and a person is not required to respond to a collection of information unless it displays a currently valid OMB control number. The Federal Register Notice with a 60-day comment period soliciting comments on this collection of information was published at 87 FR 70 on April 12, 2022, page(s) 21703.

Affected Public: Institutions or Households.

Estimated Annual Burden: 2,731 hours.

Estimated Average Burden Time per Respondent: 10 minutes.

Frequency of Response: Once.

Estimated Number of Respondents: 16,389.

By direction of the Secretary.
Maribel Aponte,
VA PRA Clearance Officer, Office of Enterprise and Integration, Data Governance Analytics, Department of Veterans Affairs.

[FR Doc. 2022-13140 Filed 6-16-22; 8:45 am]

BILLING CODE 8320-01-P